DEPARTMENT OF HEALTH AND HUMAN SERVICES

Centers for Disease Control and Prevention

[Docket No. CDC-2018-0090]

Draft Update to the Centers for Disease Control and Prevention Infection Prevention and Control Recommendation Categorization Scheme

AGENCY: Centers for Disease Control and Prevention (CDC), Department of Health and Human Services (DHHS).

ACTION: Notice with comment period.

SUMMARY: The Centers for Disease Control and Prevention (CDC), in the Department of Health and Human Services (HHS), announces the opening of a docket to obtain comment on the Draft Update to the Centers for Disease Control and Prevention Infection Prevention and Control Recommendation Categorization Scheme (Draft Update). The Draft Update provides updated categories that specify the strength of CDC's Infection Prevention and Control Guideline Recommendations. The Draft Update also includes recommendation justification tables, a new component of the recommendation development process, that provide transparency into the considerations weighed when developing infection prevention and control recommendations.

DATES: Written comments must be received on or before October 17, 2018.

ADDRESSES: You may submit comments, identified by Docket No. CDC-2018-0090 by any of the following methods:

• Federal eRulemaking Portal: http://www.regulations.gov. Follow the instructions for submitting comments.

• Mail: Division of Healthcare Quality Promotion, National Center for Emerging and Zoonotic Infectious Diseases, Centers for Disease Control and Prevention, Attn: Docket No. CDC-2018-0090, HICPAC Secretariat, 1600 Clifton Rd. NE, Mailstop A-07, Atlanta, Georgia, 30329.

Instructions: Submissions via http://regulations.gov are preferred. All submissions received must include the agency name and Docket Number. All relevant comments received will be posted without change to http://regulations.gov, including any personal information provided. For access to the docket to read background documents or comments received, go to http://www.regulations.gov.

FOR FURTHER INFORMATION CONTACT: Erin Stone, Division of Healthcare Quality Promotion, National Center for Emerging and Zoonotic Infectious Diseases, Centers for Disease Control and Prevention, 1600 Clifton Road NE, Mailstop A-07, Atlanta, Georgia, 30329; Telephone: (404) 639-4000.

SUPPLEMENTARY INFORMATION:

Public Participation

Interested persons or organizations are invited to participate by submitting written views, recommendations, and data.

Please note that comments received, including attachments and other supporting materials, are part of the public record and are subject to public disclosure. Comments will be posted on https://www.regulations.gov. Therefore, do not include any information in your comment or supporting materials that you consider confidential or inappropriate for public disclosure. If you include your name, contact information, or other information that identifies you in the body of your comments, that information will be on public display. CDC will review all submissions and may choose to redact, or withhold, submissions containing private or proprietary information such as Social Security numbers, medical information, inappropriate language, or duplicate/near duplicate examples of a mass-mail campaign. CDC will carefully consider all comments submitted in preparation of the final Update to the Centers for Disease Control and Prevention Infection Prevention and Control Recommendation Categorization Scheme and may revise the final document as appropriate.

Background

This Draft Update is a recommendation from the Healthcare Infection Control Practices Advisory Committee (HICPAC) to CDC on the updating of CDC's infection prevention and control recommendation categories. The Draft Update is located in the “Supporting & Related Material” tab of the docket.

HICPAC is a federal advisory committee charged with providing advice and guidance to the Centers for Disease Control and Prevention, and includes representatives from the public health and infectious diseases fields, regulatory and other federal agencies, professional societies, and other stakeholders. This Draft Update is not a Federal rule or regulation.

Once finalized, the Recommendation Categories and supporting Justification Tables will be used by CDC, HICPAC, and HICPAC's workgroups in the development of infection prevention and control guideline recommendations.

Dated: September 12, 2018.
Sandra Cashman,
Executive Secretary, Centers for Disease Control and Prevention.

[FR Doc. 2018-20118 Filed 9-14-18; 8:45 am]

BILLING CODE 4163-18-P